ENVIRONMENTAL PROTECTION AGENCY

40 CFR Part 52

[EPA-R01-OAR-2019-0220; FRL-9999-38-Region 1]

Air Plan Approval; Massachusetts; Reasonably Available Control Technology for the 2008 and 2015 Ozone Standard

AGENCY: Environmental Protection Agency (EPA).

ACTION: Proposed rule.

SUMMARY: The Environmental Protection Agency (EPA) is proposing approval of a State Implementation Plan (SIP) revision submitted by the Commonwealth of Massachusetts. The SIP revision consists of a demonstration that Massachusetts meets the requirements of reasonably available control technology (RACT) for the two precursors for ground-level ozone, oxides of nitrogen (NOX) and volatile organic compounds (VOCs), set forth by the Clean Air Act (CAA or Act) with respect to the 2008 and 2015 ozone National Ambient Air Quality Standards (NAAQSs). Additionally, we are proposing approval of specific regulations that implement the RACT requirements by limiting air emissions of NOX and VOC pollutants from sources within the Commonwealth. This action is being taken in accordance with the Clean Air Act.

DATES: Written comments must be received on or before September 2, 2020.

ADDRESSES: Submit your comments, identified by Docket ID No. EPA-R01-OAR-2019-0220 at https://www.regulations.gov, or via email to mackintosh.david@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the For Further Information Contact section. For the full EPA public comment policy, information about CBI or multimedia submissions, and general guidance on making effective comments, please visit http://www.epa.gov/dockets/commenting-epa-dockets. Publicly available docket materials are available at https://www.regulations.gov or at the U.S. Environmental Protection Agency, EPA Region 1 Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: David L. Mackintosh, Air Quality Branch, U.S. Environmental Protection Agency, EPA Region 1, 5 Post Office Square—Suite 100, (Mail Code 05-2), Boston, MA 02109-3912, tel. 617-918-1584, email Mackintosh.David@epa.gov.

Table of Contents

I. Background

II. Summary of Massachusetts' SIP Revisions

III. EPA's Evaluation of the Submittals

A. NOX RACT for Major Sources

B. Non-CTG VOC RACT for Major Sources

C. CTG VOC RACT

IV. Proposed Action

V. Incorporation by Reference

VI. Statutory and Executive Order Reviews

SUPPLEMENTARY INFORMATION: Throughout this document whenever “we,” “us,” or “our” is used, we mean EPA.

I. Background

Massachusetts is part of the Ozone Transport Region (OTR) under Section 184(a) of the CAA. Sections 182(b)(2) and 184 of the CAA require states with ozone nonattainment areas that are classified as moderate or above, as well as areas in the OTR, to submit a SIP revision requiring the implementation of RACT for sources covered by a control techniques guideline (CTG) and for all major sources. A CTG is a document issued by EPA which establishes a “presumptive norm” for RACT for a specific VOC source category. RACT is defined as the lowest emission limitation that a particular source is capable of meeting by the application of control technology that is reasonably available considering technological and economic feasibility.¹ The CTGs usually identify a particular control level which EPA recommends as being RACT. States are required to address RACT for the source categories covered by CTGs through adoption of rules as part of the SIP.

¹ See Memorandum from Roger Strelow, Assistant Administrator for Air and Waste Management, U.S. EPA, to Regional Administrators, U.S. EPA, “Guidance for Determining Acceptability of SIP Regulations in Non-Attainment Areas” (Dec. 9, 1976); see also 44 FR 53761, 53762 (September 17, 1979).

On October 5, 2006 (71 FR 58745), EPA issued four new CTGs: Industrial Cleaning Solvents; Offset Lithographic Printing and Letterpress Printing; Flexible Package Printing; and Flat Wood Paneling Coatings, and applicable areas were required to address them by October 5, 2007. On October 9, 2007 (72 FR 57215), EPA issued three more CTGs: Paper, Film, and Foil Coatings; Large Appliance Coatings; and Metal Furniture Coatings, and applicable areas were required to address them by October 9, 2008. On October 7, 2008 (73 FR 58841), EPA issued an additional four CTGs: Miscellaneous Metal and Plastic Parts Coatings; Fiberglass Boat Manufacturing Materials; Miscellaneous Industrial Adhesives; and Automobile and Light-Duty Truck Assembly Coatings, and applicable areas were required to address them by October 7, 2009. Lastly, on Oct 27, 2016 (81 FR 74798), EPA issued a new CTG for the Oil and Natural Gas Industry, and applicable areas were required to address it by October 27, 2018.

On March 27, 2008 (73 FR 16436), EPA revised the health-based NAAQS for ozone to 0.075 parts per million (ppm), averaged over an 8-hour timeframe. EPA determined that the revised 8-hour standard would be more protective of human health, especially with regard to children and adults who are active outdoors and individuals with a pre-existing respiratory disease such as asthma.

On March 6, 2015 (80 FR 12264), EPA published a final rule outlining the obligations for areas in nonattainment with the 2008 ozone standard, as well as obligations for areas in the OTR. This rule, referred to as the “2008 Ozone Implementation Rule,” contains a description of EPA's expectations for states with RACT obligations, and required states in the OTR to certify RACT requirements by July 20, 2014. The 2008 Ozone Implementation Rule gives states several options for meeting RACT requirements for the 2008 ozone standard. States may (1) establish new or more stringent rules that meet RACT control levels for the 2008 standard; (2) certify, where appropriate, that previously adopted RACT rules approved by EPA under a prior ozone standard represent adequate RACT control levels for the 2008 ozone NAAQS; or (3) submit a negative declaration in instances where there are no sources in the state covered by a specific CTG source category. States may use these options alone or in combination to demonstrate compliance with RACT requirements.

On October 26, 2015 (80 FR 65291), EPA revised the health-based NAAQS for ozone, setting it at 0.070 ppm averaged over an 8-hour time frame. On December 6, 2018 (83 FR 62998), EPA published a final rule that outlines the obligations for areas in nonattainment with the 2015 ozone standard, as well as obligations for areas in the OTR. This rule, referred to as the “2015 Ozone Implementation Rule,” requires states in the OTR to certify RACT requirements by August 3, 2020.

On February 3, 2017 (82 FR 9158), EPA published a final rule finding that Massachusetts, as well as 14 other states and the District of Columbia, had failed to submit SIP revisions in a timely manner to satisfy certain requirements for the 2008 ozone NAAQS. With respect to Massachusetts, EPA found that the Commonwealth had failed to submit three required SIP elements: NOX RACT for Major Sources; Non-CTG VOC RACT for Major Sources; and CTG VOC RACT. Id. at 9162. This finding became effective March 6, 2017, and started a SIP sanctions clock, which required the missing SIP elements to be submitted and deemed complete before September 6, 2018. Id. at 9160-61.

On May 18, 2020, EPA proposed to approve a State Implementation Plan (SIP) revision submitted by the Commonwealth of Massachusetts (see 85 FR 29678). The revision provides Massachusetts' determination, via a negative declaration, that there are no facilities within its borders subject to EPA's 2016 Control Technique Guideline (CTG) for the oil and gas industry. The comment period for this action closed on June 17, 2020. EPA's separate approval action on the Massachusetts negative declaration for the Oil and Natural Gas Industry, can also be found under Docket ID No. EPA-R01-OAR-2019-0220 at https://www.regulations.gov.

II. Summary of SIP Revisions

On October 18, 2018, Massachusetts submitted a SIP revision to address its RACT requirements set forth by the CAA for the 2008 and 2015 8-hour ozone NAAQSs (i.e., RACT Certifications). On October 19, 2018, EPA determined Massachusetts' SIP submittal was administratively and technically complete for the 2008 ozone NAAQS. This completeness determination ended the offset sanctions identified in Clean Air Act Section 179(b)(2), which began on September 6, 2018, as described in the Findings of Failure to Submit SIP Submittals for the 2008 ozone NAAQS (82 FR 9158, February 3, 2017).

The Massachusetts RACT Certification submittal is based on (1) newly required RACT controls, for both major sources of NOX and VOCs as well as for sources subject to CTGs, that have been implemented in Massachusetts, and will be part of the Massachusetts SIP upon final approval of this EPA action; (2) previously EPA-approved RACT controls which are not being revised in this action, including regulations and source-specific requirements, that represent RACT control levels under the 2008 and 2015 ozone NAAQSs; and (3) the fact that Massachusetts has no sources subject to RACT for several source categories, for which negative declarations are described in Section III.

Specifically, the Massachusetts October 2018 RACT SIP revision contains a certification that Massachusetts has met all RACT requirements for the 2008 and 2015 8-hour ozone NAAQSs and updates the SIP with the following changes to Title 310 Code of Massachusetts Regulations (CMR): revised section 7.00, Definitions; revised section 7.08(2), Municipal Waste Combustors; revised section 7.18, VOC RACT subsections (3) Metal Furniture Surface Coating, (5) Large Appliance Surface Coating, (11) Surface Coating of Miscellaneous Metal Parts and Products, (12) Packaging Rotogravure and Packaging Flexographic Printing, (14) Paper, Film and Foil Surface Coating, (21) Surface Coating of Plastic Parts, (24) Flat Wood Paneling Surface Coating, (25) Offset Lithographic Printing Letterpress Printing; withdrawal of section 7.18(7), Automobile Surface Coating; adding 7.18, VOC RACT subsections (31) Industrial Cleaning Solvents and (32) Fiberglass Boat Manufacturing; and revised section 7.19, NOX RACT subsections (2) General Provisions, (4) Large Boilers, (5) Medium-size Boilers, (6) Small Boilers, (7) Stationary Combustion Turbines, (8) Stationary Reciprocating Internal Combustion Engines, and (9) Municipal Waste Combustor Units.

On May 28, 2020, Massachusetts submitted a “RACT SIP Revision” to withdraw portions of the Massachusetts October 2018 RACT SIP revision and replace these portions with more recently adopted versions of the regulations. EPA determined Massachusetts' May 28, 2020 RACT SIP revision was administratively and technically complete on June 2, 2020. Massachusetts' May 28, 2020, RACT SIP revision adds an exemption for aerospace operations to subsection (31) Industrial Cleaning Solvents since aerospace cleaning operations are already subject to VOC controls in subsection (11) Surface Coating of Miscellaneous Metal Parts and Products. Aerospace coating operation requirements in subsection (11) Surface Coating of Miscellaneous Metal Parts and Products were also revised to be consistent with the coating limits last approved as RACT by EPA on October 9, 2013 (78 FR 54960), which are also consistent with the EPA Aerospace CTG issued June 6, 1994 (59 FR 29216). The May 28, 2020, RACT SIP revision also contains a number of miscellaneous changes and technical corrections, including an exemption for “quality assurance/quality control cleaning activities in manufacturing processes” in subsection (31) Industrial Cleaning Solvents, clarifications to provisions for alternative VOC emissions standards for surface coatings, and a revised definition of Paper, Film, and Foil Coating to better align with the EPA CTG. Massachusetts' May 28, 2020 RACT SIP revision also reaffirms that the requirements in the regulations as amended continue to constitute RACT in accordance with EPA guidance.

III. EPA's Evaluation of the Submittals

A. NOX RACT for Major Sources

Massachusetts revised 310 CMR 7.19, Reasonably Available Control Technology (RACT) for Sources of Oxides of Nitrogen (NOX), to contain more stringent emission standards for large boilers, stationary combustion turbines, and stationary reciprocating internal combustion engines. Massachusetts evaluated other states' recent RACT regulations and analyzed emissions and operational profiles of combustion units at major source facilities in Massachusetts to determine RACT requirements for these categories. As part of its review, Massachusetts concluded that it was not reasonable for large boilers, turbines, and engines that operate infrequently to meet the more stringent emission limits. Therefore, the revised regulation exempts from the new emission standards large boilers and turbines with a three-year-average capacity factor less than ten percent. MassDEP's regulations already allow owners of engines that operate less than 1,000 hours in any 12-month period to make a specific combustion control adjustment to reduce NOX rather than meet numerical emissions limits; this provision remains in the new RACT regulations.

Massachusetts also revised 310 CMR 7.08(2) and 7.19(9) to contain lower NOX RACT emissions limits for large and small municipal waste combustors (MWCs), respectively. Under 310 CMR 7.08(2), the emissions standards for mass-burn waterwall and refuse-derived-fuel (RDF) stoker units is reduced from 205 and 250 parts per million (ppm) NOX to 150 and 146 ppm, respectively. These facilities use a combination of selective non-catalytic reduction (SNCR) as well as combustion air staging to minimize NOX emissions and ammonia slip. The revised emissions limits are consistent with the most stringent RACT regulations in nearby states. For small MWC units under 310 CMR 7.19(9), Massachusetts revised the emission limit to 167 ppm, which is a reasonable limit of NOX emissions based on the inherent NOX emissions performance and control technology limitations of refractory-wall modular mass-burn small MWC units.

These NOX RACT revisions reduce NOX emissions by lowering the maximum NOX content of most sources compared to Massachusetts' previously-approved regulation. Therefore, the revised rule is expected to achieve equivalent or greater emissions reductions. Thus, revising the SIP to incorporate the revised rule will not interfere with any applicable requirement concerning attainment and reasonable further progress or any other applicable requirement of the Act. See CAA § 110(l).

Three source-specific requirements were previously approved into the Massachusetts SIP for NOx RACT. One of these facilities, Solutia, formerly Monsanto, 55 FR 5986 (2/21/1990), repowered its coal-fired boiler to natural gas-only fuel, which is subject to the newer control standards that are no less stringent than RACT. The remaining two facilities with EPA approved source-specific requirements are Oldcastle, formerly Medusa, 64 FR 48095 (9/2/1999) and Specialty Minerals 64 FR 48095 (9/2/1999). These two facilities continue to operate the same emissions units and EPA approved RACT controls.

After reviewing existing EPA-approved source-specific NOX control requirements, revised regulations controlling NOX sources, and the existing SIP approved regulations described in 40 CFR part 52.1120(c) EPA-approved regulations, the EPA agrees with Massachusetts' determination that requirements for major sources of NOx meet, or are more stringent than, RACT requirements. Herein, EPA proposes that the above controls represent RACT for these NOX sources in Massachusetts for the 2008 and 2015 ozone standards.

B. Non-CTG VOC RACT for Major Sources

Massachusetts has eight major VOC emitting facilities subject to source-specific control requirements that were previously approved by EPA. One of these faculties, Duro Textile Printers, closed permanently in 2017. The remaining seven facilities with EPA approved source-specific requirements are: (1) Alliance Leather, formerly Barnet Corporation, 67 FR 62179 (10/4/2002); (2) Brittany Dyeing and Finishing 60 FR 12123 (3/6/1995); (3) Callaway, formerly Spalding Corporation, 54 FR 46894 (11/8/1989); (4) Erving Paper Mills 55 FR 5447 (2/15/1990); (5) Gillette 67 FR 62179 (10/4/2002); (6) Solutia, formerly Monsanto Chemical, 67 FR 62179 (10/4/2002); and (7) St. Gobain Abrasives, Inc., formerly Norton, 67 FR 62179 (10/4/2002). These sources continue to operate in the same manufacturing sectors and while some of these facilities have experienced physical and operational changes including new and reconfigured processes subject to Best Available Control Technology (BACT) as part of state minor New Source Review (NSR) permitting, the level of VOC control continues to be no less stringent than RACT.

After reviewing existing stationary VOC sources in Massachusetts, the EPA agrees with Massachusetts' determination that the requirements for major sources of VOC meet RACT requirements. EPA proposes that the seven operating facilities with source-specific requirements continue to represent RACT for major VOC sources in Massachusetts for the 2008 and 2015 ozone standards because no new control technologies are known to be reasonably available considering technological and economic feasibility for these sources since our last approval.

C. CTG VOC RACT

The revisions to 310 CMR 7.18, subsections (3) Metal Furniture Surface Coating, (5) Large Appliance Surface Coating, (11) Surface Coating of Miscellaneous Metal Parts and Products, and (21) Surface Coating of Plastic Parts contain updated work practices, coating application methods, and recordkeeping requirements for applicable facilities. The rules specifically list multiple types of approved coating applications methods; however, other coating application methods capable of achieving a transfer efficiency equivalent to, or better than, that provided by high-volume low-pressure (HVLP) spray application may also be used if approved by EPA. Control options permit equivalent emissions limits expressed in terms of mass of VOC per volume of solids as applied or the use of add-on controls. The coating limits in the revised regulations generally follow the recommendations in EPA's CTGs, with three notable category exceptions for metal parts coatings: Extreme high gloss topcoat; other substrate antifoulant coating; and antifouling sealer/tie. For these three categories, Massachusetts reviewed industry data and determined that for purposes of functionality, cost, and VOC emissions, the higher limits adopted for these three coating categories constitute RACT. Massachusetts' approach is consistent with the EPA guidance memorandum entitled “Control Technique Guidelines for Miscellaneous Metal and Plastic Part Coatings—Industry Request for Reconsideration” from Stephen Page to Air Branch Chiefs, Regions I-X, dated June 1, 2010. Massachusetts' new VOC coating limits are also lower than most of the previously SIP-approved limits. Although some specialty coatings limits are higher than previous limits, since the general use coating limit is lower and these coatings are more frequently used, coupled with the fact that the revised rule's applicability is broader, the revised rule reduces VOC emissions and will not interfere with any applicable requirement concerning attainment and reasonable further progress or any other applicable requirement of the Act. See CAA § 110(l). This analysis is also consistent with the March 17, 2011, EPA guidance memorandum entitled “Approving SIP Revisions Addressing VOC RACT Requirements for Certain Coating Categories.”

The revisions to 310 CMR 7.18, subsections (12) Packaging Rotogravure and Packaging Flexographic Printing, (14) Paper, Film and Foil Surface Coating, and (25) Offset Lithographic Printing and Letterpress Printing are consist with the recommendations in EPA's CTGs. The revisions reduce VOC emissions by lowering applicability thresholds compared to Massachusetts' previously-approved regulation. The applicability thresholds for the work practices are revised to be the greater of 15 pounds of VOC per day or 3 tons per rolling 12-month period before application of control equipment. The applicability thresholds for the emission limits are now 25 tons of VOC per rolling 12-month period per printing line before application of control equipment. Therefore, the revised rules are expected to achieve equivalent or greater emissions reductions. Thus, revising the SIP to incorporate the revised rule will not interfere with any applicable requirement concerning attainment and reasonable further progress or any other applicable requirement of the Act. See CAA § 110(l).

The revisions to 310 CMR 7.18, subsection (24) Flat Wood Paneling Surface Coating are generally consistent with EPA's CTG for Flat Wood Paneling Coatings (EPA-453/R-06-004, September 2006). The applicability threshold of the greater of 15 pounds of VOC per day or 3 tons per rolling 12-month period before application of control equipment was revised to also consider associated cleaning operations. Applicable sources are required to limit VOC emissions by adding on a pollution control device with 90% efficiency or by limiting VOC content in coatings to 2.1 lbs of VOC per gallon of coating. The rule also requires record keeping and work practices for handling VOC-containing coatings, thinners, cleaning materials, and coatings-related waste materials. The revised rule reduces VOC emissions by lowering the maximum VOC content of most coatings, compared to Massachusetts' previously-approved regulation. Therefore, the revised rule is expected to achieve equivalent or greater emissions reductions. Thus, revising the SIP to incorporate the revised rule will not interfere with any applicable requirement concerning attainment and reasonable further progress or any other applicable requirement of the Act. See CAA § 110(l).

The addition of 310 CMR 7.18, subsection (31) Industrial Cleaning Solvents creates a new regulation, which generally applies to any facility with emissions from industrial cleaning solvents greater than 15 pounds of VOC per day or 3 tons per rolling 12-month period, before application of control equipment. The regulation contains work practices and three options for compliance with the VOC content of the industrial cleaning solvent: (1) Use of materials which meet the specific VOC content limitations in Table 310 CMR 7.18(31)(d)1; or (2) use of industrial cleaning solvents that have a VOC composite partial pressure equal to or less than eight mm Hg at 20 °C (68 °F); or (3) achievement of an overall VOC capture control efficiency of at least 85% by weight using add-on air pollution capture and control equipment.

The addition of 310 CMR 7.18, subsection (32) Fiberglass Boat Manufacturing creates a new regulation, which applies to any fiberglass boat manufacturing facility with emissions from manufacturing and cleaning operations greater than 15 pounds of VOC per day or 3 tons per rolling 12-month period, before the application of control equipment. The regulation includes work practices and four options for compliance with the monomer (the basic building block of fiberglass resins) VOC content limitations for open molding resins and gel coats, as follows: (1) Use materials which meet the specific VOC content limitations in Table 310 CMR 7.18(32)(E)1; (2) emissions of no more than a calculated weighted-average monomer VOC content for a specific category and application method; (3) emissions of no more than a calculated facility-wide emissions average VOC emissions cap; or (4) use of add-on air pollution capture and control equipment to emit no more than a numerical monomer VOC emission limitation that is determined for each facility.

Massachusetts has determined that there are no applicable stationary sources of VOC in Massachusetts for ten CTG categories: (1) Refinery Vacuum Producing Systems, Wastewater Separators, and Process Unit Turnarounds; (2) Leaks from Petroleum Refinery Equipment; (3) Manufacture of Synthesized Pharmaceutical Products; (4) Manufacture of Pneumatic Rubber Tires; (5) Large Petroleum Dry Cleaners; (6) Manufacture of High-Density Polyethylene, Polypropylene, and Polystyrene Resins; (7) Equipment Leaks from Natural Gas/Gasoline Processing Plants; (8) Air Oxidation Processes; (9) Surface Coating of Automobiles and Light-Duty Trucks; and (10) Oil and Natural Gas Industry. These negative declarations mean that Massachusetts has no applicable stationary sources of VOC that are covered by these CTGs.

Since Massachusetts is making a negative declaration with respect to the Automobiles and Light-Duty Truck Assembly Coatings CTG, they have requested 310 CRM 7.18, subsection (7) be withdrawn from the Massachusetts SIP. Since Massachusetts has certified there are no applicable sources, and new sources would be subject to minor new source review permitting, the withdrawal of the rule will have no effect on VOC emissions compared to currently-approved regulations. Thus, revising the SIP to withdraw the rule will not interfere with any applicable requirement concerning attainment and reasonable further progress or any other applicable requirement of the Act. See CAA § 110(l).

EPA has evaluated Massachusetts' CTG VOC regulations, which the Commonwealth certifies as meeting RACT for the 2008 and 2015 ozone standards, and EPA finds that the regulations are sufficiently consistent with recommendations in the respective EPA CTGs and are based on currently available technologically and economically feasible controls. Therefore, EPA proposes that the regulations being added and revised in this action, along with the past approved VOC CTG regulations, represent RACT in Massachusetts for the 2008 and 2015 ozone standards.

IV. Proposed Action

EPA is proposing to approve Massachusetts' SIP revision as meeting the Commonwealth's RACT obligations for the 2008 and 2015 8-hour ozone NAAQSs as set forth in sections 182(b) and 184(b)(2) of the CAA, and to add “Massachusetts Reasonably Available Control Technology State Implementation Plan Revision for the 2008 and 2015 Ozone National Ambient Air Quality Standards” dated October 18, 2018, and “RACT SIP Revision” dated May 28, 2020 to the Massachusetts SIP, which includes ten negative declarations for CTG source categories. EPA is proposing to approve 310 CMR changes to the Massachusetts SIP, as follows: revised section 7.00, Definitions; revised section 7.08(2), Municipal Waste Combustors; revised section 7.18, VOC RACT subsections (3) Metal Furniture Surface Coating, (5) Large Appliance Surface Coating, (11) Surface Coating of Miscellaneous Metal Parts and Products, (12) Packaging Rotogravure and Packaging Flexographic Printing, (14) Paper, Film and Foil Surface Coating, (21) Surface Coating of Plastic Parts, (24) Flat Wood Paneling Surface Coating, (25) Offset Lithographic Printing Letterpress Printing; withdrawal of 7.18, section (7) Automobile Surface Coating; addition of 7.18 VOC RACT, subsections (31) Industrial Cleaning Solvents and (32) Fiberglass Boat Manufacturing; revised section 7.19, NOX RACT subsections (2) General Provisions, (4) Large Boilers, (5) Medium-size Boilers, (6) Small Boilers, (7) Stationary Combustion Turbines, (8) Stationary Reciprocating Internal Combustion Engines, and (9) Municipal Waste Combustor Units. EPA is soliciting public comments on the issues discussed in this notice or on other relevant matters. These comments will be considered before taking final action. Interested parties may participate in the Federal rulemaking procedure by submitting written comments to this proposed rule by following the instructions listed in the ADDRESSES section of this Federal Register.

V. Incorporation by Reference

In this document, EPA is proposing to amend regulatory text that includes incorporation by reference. In accordance with requirements of 1 CFR 51.5, EPA is proposing changes to the Massachusetts SIP as described in the Proposed Action section above. The EPA has made, and will continue to make, these documents generally available through https://www.regulations.gov and at the EPA Region 1 Office (please contact the person identified in the FOR FURTHER INFORMATION CONTACT section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Dated: July 16, 2020.
Dennis Deziel,
Regional Administrator,EPA Region 1.

[FR Doc. 2020-15807 Filed 7-31-20; 8:45 am]

BILLING CODE 6560-50-P